DEPARTMENT OF THE INTERIOR

National Park Service

Concession Contracts: Extension of Expired Contracts

AGENCY: National Park Service, Interior.

ACTION: Public notice.

SUMMARY: Pursuant to 36 CFR 51.23, public notice is hereby given that, in order to avoid interruption of visitor services, the National Park Service has extended the following concession contracts for a period of 3 years (i.e., until December 31, 2005) or until such time as new authorizations are executed, whichever occurs sooner.

SUPPLEMENTARY INFORMATION All of the listed concession contracts expired by their terms on December 31, 2002. The National Park service has determined that the proposed extensions are necessary in order to avoid interruption of visitor services and has taken all reasonable and appropriate steps to consider alternatives to avoid such interruption. These extensions will allow the National Park Service to complete development of a Colorado River Management Plan, and issue a prospectus based on that plan leading to the competitive selection of concessioners for new long-term concession contracts covering these operations.

Concessioner ID No. | Concessioner name | Park
GRCA006 | Arizona Raft Adventures, Inc | Grand Canyon National Park.
GRCA007 | Arizona River Runners, Inc | Grand Canyon National Park.
GRCA010 | Canyoneers, Inc | Grand Canyon National Park.
GRCA011 | Colorado River & Trails Expeditions, Inc | Grand Canyon National Park.
GRCA015 | Grand Canyon Expeditions Company Inc | Grand Canyon National Park.
GRCA016 | Canyon Expeditions, Inc | Grand Canyon National Park.
GRCA017 | Diamond River Adventures, Inc | Grand Canyon National Park.
GRCA018 | Hatch River Expeditions, Inc | Grand Canyon National Park.
GRCA020 | Moki Mac River Expeditions, Inc | Grand Canyon National Park.
GRCA021 | OARS, Inc | Grand Canyon National Park.
GRCA022 | Outdoor Unlimited River Trips | Grand Canyon National Park.
GRCA024 | Aramark Leisure Services, Inc., dba Wilderness River Adventures | Grand Canyon National Park.
GRCA025 | Tour West, Inc | Grand Canyon National Park.
GRCA026 | Western River Expeditions, Inc | Grand Canyon National Park.
GRCA028 | Canyon Explorations, Inc | Grand Canyon National Park.
GRCA029 | High Desert Adventures, Inc | Grand Canyon National Park.

EFFECTIVE DATE: January 1, 2003.

FOR FURTHER INFORMATION CONTACT: Nick Hardigg, Chief, Concession Management, Grand Canyon National Park, P.O. Box 129, Grand Canyon, AZ 86023, Telephone 928/638-7709.

Dated: March 3, 2003.
Cindy Orlando,
Associate Director, Administration, Business Practices and Workforce Development.

[FR Doc. 03-8496 Filed 4-7-03; 8:45 am]

BILLING CODE 4310-70-M